ENVIRONMENTAL PROTECTION AGENCY

[ER-FRL-9044-3]

Environmental Impact Statements; Notice of Availability

Responsible Agency: Office of Federal Activities, General Information 202-564-5632 or https://www.epa.gov/nepa/.

Weekly receipt of Environmental Impact Statements

Filed 04/01/2019 Through 04/05/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190052, Final, NRC, TN, Environmental Impact Statement for an Early Site Permit at the Clinch River Nuclear Site, Review Period Ends: 05/13/2019, Contact: Tamsen Dozier 301-415-2272

EIS No. 20190053, Draft, USACE, FL, East Lake Tohopekaliga Drawdown and Habitat Enhancement, Comment Period Ends: 05/28/2019, Contact: Jeffrey S. Collins 321-504-3771, ext. 13

EIS No. 20190054, Draft, NSF, AQ, Continuation and Modernization of McMurdo Station Area Activities, Comment Period Ends: 07/11/2019, Contact: Dr. Polly A. Penhale 703-292-7420

EIS No. 20190055, Draft, FHWA, NC, U-4738 Draft Environmental Impact Statement, Comment Period Ends: 05/28/2019, Contact: Ron Lucas 919-747-7019

EIS No. 20190056, Draft, BR, CA, B.F. Sisk Dam Safety of Dams Modification Project Draft Environmental Impact Statement/Environmental Impact Report, Comment Period Ends: 05/28/2019, Contact: Jamie LeFevre 916-987-5035

Amended Notice:

EIS No. 20190048, Draft, NYCOMB, NY, East Side Coastal Resiliency (ESCR), Comment Period Ends: 08/15/2019, Contact: Eram Qadri 212-788-6282 Revision to FR Notice Published 04/05/2109; Correction Lead Agency from HUD to NYCOMB.

Dated: April 9, 2019.
Robert Tomiak,
Director, Office of Federal Activities.

[FR Doc. 2019-07285 Filed 4-11-19; 8:45 am]

BILLING CODE 6560-50-P